DEPARTMENT OF THE INTERIOR

Fish and Wildlife Service

[FWS-R4-ES-2018-N172; FXES11130900000C2-190-FF09E32000]

Endangered and Threatened Wildlife and Plants; Initiation of 5-Year Status Review for Atlantic Sturgeon (Gulf Subspecies)

AGENCY: Fish and Wildlife Service, Interior.

ACTION: Notice of initiation of review; request for information.

SUMMARY: We, the U.S. Fish and Wildlife Service (USFWS) and the National Marine Fisheries Service (NOAA-NMFS), are initiating a 5-year status review for the Gulf subspecies of the Atlantic sturgeon under the Endangered Species Act. A 5-year review is an assessment of the best scientific and commercial data available at the time of the review. We are requesting submission of information that has become available since the last review of this subspecies.

DATES: To ensure consideration, we are requesting submission of new information no later than June 10, 2019. However, we will continue to accept new information about any listed species at any time.

ADDRESSES: For instructions on how to submit information and review information that we receive on this subspecies, see Request for New Information under SUPPLEMENTARY INFORMATION.

FOR FURTHER INFORMATION CONTACT: For species-specific information, see Request for New Information under SUPPLEMENTARY INFORMATION. Individuals who are hearing impaired or speech impaired may call the Federal Relay Service at 800-877-8339 for TTY assistance.

SUPPLEMENTARY INFORMATION:

Why do we conduct 5-year reviews?

Under the Endangered Species Act of 1973, as amended (ESA; 16 U.S.C. 1531 et seq.), we maintain lists of endangered and threatened wildlife and plant species (referred to as the Lists) in title 50 of the Code of Federal Regulations (CFR) at 50 CFR 17.11 (for wildlife) and 17.12 (for plants). Section 4(c)(2)(A) of the ESA requires us to review each listed species' status at least once every 5 years. Our regulations at 50 CFR 424.21 require that we publish a notice in the Federal Register announcing those species under active review. For additional information about 5-year reviews, go to http://www.fws.gov/endangered/what-we-do/recovery-overview.html.

Which species are under review?

This notice announces our active 5-year review of the species in the following table.

Common name/scientific name | Contact person, email, phone | Status (endangered or threatened) | States where the species is known to occur | Final listing rule (Federal Register citation and publication date) | Contact's mailing address
ANIMALS
Fishes
Sturgeon, Atlantic (Gulf subspecies) (Acipenser oxyrinchus desotoi) | Adam Kaeser, panamacity@fws.gov, 850-769-0552, or Nick Farmer, nick.farmer@noaa.gov, 727-824-5305 | Threatened | Alabama, Florida, Louisiana, Mississippi | 56 FR 49653; 9/30/1991 | USFWS, 1601 Balboa Ave., Panama City, FL 32405.

What information do we consider in our review?

A 5-year review considers the best scientific and commercial data that have become available since the current listing determination or most recent status review of a species, such as:

A. Species biology, including but not limited to population trends, distribution, abundance, demographics, and genetics;

B. Habitat conditions, including but not limited to amount, distribution, and suitability;

C. Conservation measures that have been implemented to benefit the species;

D. Threat status and trends (see the five factors under How Do We Determine Whether A Species Is Endangered or Threatened?); and

E. Other new information, data, or corrections, including but not limited to taxonomic or nomenclatural changes, identification of erroneous information contained in the List, and improved analytical methods.

We request any new information concerning the status of this subspecies. Information submitted should be supported by documentation such as maps, bibliographic references, methods used to gather and analyze the data, and/or copies of any pertinent publications, reports, or letters by knowledgeable sources.

Definitions

A. Species means any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the ESA requires that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Request for New Information

To do any of the following, contact the persons associated with the subspecies under the table in Which Species Are Under Review?:

A. To get more information on this subspecies;

B. To submit information on this subspecies; or

C. To review information we receive, which will be available for public inspection by appointment, during normal business hours, at the addresses given in the table.

Public Availability of Comments

Comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Availability of Status Reviews

All completed status reviews under the ESA are available via either of the following websites:

• Service: https://www.fws.gov/endangered/species/us-species.html.

• NOAA-NMFS: https://www.fisheries.noaa.gov/resources/documents?title=&field_category_document_value%5Besa_five_review%5D=esa_five_review&sort_by=created.

Authority: We publish this document under the authority of the Endangered Species Act (16 U.S.C. 1531 et seq.).

Dated: February 20, 2019.
Mike Oetker,
Acting Regional Director, Southeast Region.

[FR Doc. 2019-07174 Filed 4-10-19; 8:45 am]

BILLING CODE 4333-15-P